DEPARTMENT OF COMMERCE

National Oceanic and Atmospheric Administration

Alcoa Point Comfort/Lavaca Bay NPL Site, Point Comfort, TX; Notice of Availability

AGENCY: National Oceanic and Atmospheric Administration, Commerce.

ACTION: Alcoa Point Comfort/Lavaca Bay NPL Site, Point Comfort, Texas: Notice of availability of a final damage assessment and restoration plan/environmental assessment for recreational fishing service losses.

SUMMARY: Under the Comprehensive Environmental Response, Compensation and Liability Act regulations (CERCLA, 43 CFR sections 11.32 and 11.81-11.82), natural resource trustees are providing notice on the availability of a document entitled, “Final Damage Assessment and Restoration Plan and Environmental Assessment for the Point Comfort/Lavaca Bay NPL Site Recreational Fishing Service Losses” (Final DARP/EA). This document has been approved by the state and federal natural resource trustee agencies to address the recreational fishing service losses attributable to hazardous substances released from the Alcoa Point Comfort/Lavaca Bay NPL Site (Site). This DARP/EA finalizes the restoration plan that will be used to compensate for recreational fishing service losses associated with the fishing closure at the Site. In developing this Final DARP/EA, the trustees released a Draft DARP/EA on September 28, 1999, for public review and comment for a period of 30 days (64 Fed. Reg. 52294, September 28, 1999; 24 Tex. Reg. 8635, October 1, 1999; Port Lavaca Wave, September 20,1999). Based on the public comments received during this period, the trustees finalized their assessment of the recreational fishing service losses and selected two restoration actions for inclusion in the final plan, but found it necessary to propose other restoration alternatives to complete the restoration plan for the recreational fishing service losses. These revised, preferred alternatives were presented in a Revised Draft DARP/EA released on May 12, 2000, and were also available for public review and comment for a period of 30 days (65 Fed. Reg. 30565, May 12, 2000; 25 Tex. Reg. 4379, May 12, 2000; Port Lavaca Wave, May 10, 2000). The trustees received no public comments on the Revised Draft DARP/EA. In the Final DARP/EA released today, the alternative restoration projects have been selected to complete the restoration plan for the recreational fishing service losses.

ADDRESSES: Requests for copies of the Final DARP/EA should be sent to Richard Seiler of the Texas Natural Resources and Conservation Commission (TNRCC), MC142, P.O. Box 13087, Austin, TX 78711-3087 or Tony Penn of the National Oceanic and Atmospheric Administration (NOAA), 1305 East-West Highway, Station 10218, Silver Spring, MD 20910. A copy of the Final DARP/EA is also available for downloading at http://www.darp.noaa.gov/publicat.htm.

FOR FURTHER INFORMATION CONTACT: Richard Seiler at (512) 239-2523, email: rseiler@tnrcc.state.tx.us, or Tony Penn, at (301) 713-3038 x 197, email: tony.penn@noaa.gov

SUPPLEMENTARY INFORMATION: The Alcoa Point Comfort/Lavaca Bay NPL Site is located in Point Comfort, Calhoun County, Texas and encompasses releases of hazardous substances from Alcoa's Point Comfort Operations facility. Between 1948 and the present, Alcoa constructed and operated several types of manufacturing processes at this facility, including aluminum smelting, carbon paste and briquette manufacturing, gas processing, chlor-alkali processing, and alumina refining. Past operations at the facility resulted in the release of hazardous substances into the environment, including the discharge of mercury-containing wastewater into Lavaca Bay from 1966 to 1970 and releases of mercury into the bay through groundwater. In April 1988, the Texas Department of Health (TDH) issued a “closure order” prohibiting the taking of finfish and crabs for consumption from a specific area near the facility due to elevated mercury concentrations in these resources.

The Alcoa Point Comfort/Lavaca Bay Site was added to the NPL, under section 105 of CERCLA, 42 U.S.C. 9601, effective on March 25, 1994 (59 FR 8794; February 23, 1994). The Site was listed primarily due to the presence of mercury in several species of fish and crab in Lavaca Bay, the fishing closure imposed by TDH, and the presence of mercury and other hazardous substances in bay sediments adjacent to the facility. Alcoa, the State of Texas and the U.S. Environmental Protection Agency (EPA) signed an Administrative Order on Consent (AOC) under CERCLA in March 1994 providing for the conduct of a remedial investigation and feasibility study (RI/FS) for the Site.

The National Oceanic and Atmospheric Administration (NOAA, acting on behalf of the Department of Commerce), the United States Department of the Interior (DOI), the Texas Parks and Wildlife Department (TPWD), the Texas General Land Office (TGLO), and the Texas Natural Resources and Conservation Commission (TNRCC) are designated natural resource trustees under section 107(f) of CERCLA, section 311 of the Federal Water Pollution and Control Act (FWPCA), 33 U.S.C. section 1321, and other applicable federal or state laws, including subpart G of the National Oil and Hazardous Substances Pollution Contingency Plan (NCP), 40 CFR sections 300.600-300.615. As trustees, these agencies are authorized to act on behalf of the public under these authorities to protect and restore natural resources and resource services injured or lost as a result of discharges or releases of hazardous substances.

Paralleling the RI/FS process for the Site, the trustees have undertaken an assessment of the natural resource injuries and service losses resulting from releases of hazardous substances attributable to the Site. This assessment process has been aided and supported by Alcoa's cooperation under a Memorandum of Agreement between Alcoa and the Trustees, effective January 14, 1997. The Final DARP/EA released today has been developed under the cooperative assessment framework outlined in the MOA.

The Draft DARP/EA released for public review on September 28, 1999, described the assessment procedures being used to define the recreational fishing service losses, including to scale restoration actions, and the restoration actions preferred for use to compensate for those losses. The choice of preferred restoration actions was based on the anticipated benefits of such actions to both pier- or shore-based and boat-based anglers. None of the public comments received on the Draft DARP/EA raised any issue regarding the identified assessment procedures or the two restoration actions proposed for use to compensate for pier- or shore-based fishing losses. Significant public comments, however, were received opposing the restoration action proposed in the Draft DARP/EA to address the boat-based fishing losses. In considering these comments, the trustees found it necessary to revise that portion of the restoration plan. The Revised Draft DARP/EA released on May 12, 2000 summarized the public comments received, finalized the assessment procedures, finalized the selection of the restoration actions for the pier- or shore-based fishing losses, identified alternative restoration projects as preferred to address the remainder of the recreational fishing service losses, and explained the basis and rationale for that change. The trustees received no comments on the Revised Draft DARP/EA and, therefore, have selected the alternative restoration projects for inclusion in the restoration plan for the recreational fishing service losses. The Final DARP/EA summarizes the assessment of recreational fishing service losses, summarizes this restoration planning history and completes the final restoration plan to compensate for those losses.

The Final DARP/EA released today only addresses recreational fishing service losses resulting from the fishing closure. Its release completes the first stage of the assessment and restoration planning process for the Site. Natural resource injuries or service losses of an ecological nature, including those due to early or anticipated future response actions, are being addressed as a separate, second stage of the assessment and restoration planning process. The Final DARP/EA for these ecological injuries and losses is also being released today and is the subject of a separate notice.

Dated: October 25, 2001.
Jamison S. Hawkins,
Deputy Assistant Administrator for Ocean Services and Coastal Zone Management.

[FR Doc. 01-28096 Filed 11-8-01; 8:45 am]

BILLING CODE 3510-JE-P